FEDERAL EMERGENCY MANAGEMENT AGENCY

Privacy Act of 1974: Flood Map Customer Records

AGENCY: Federal Emergency Management Agency (FEMA).

ACTION: Notice of a new system of records.

SUMMARY: In accordance with the Privacy Act of 1974 (5 U.S.C. 552a), we (FEMA) give notice that we are establishing a new system of records under the authority of the Flood Insurance Act of 1968 as amended, 42 U.S.C. 4100, et seq. That Act established the National Flood Insurance Program (NFIP), a critical component of which is the identification and mapping of the nation's floodplains to provide the data necessary for community floodplain management programs and to actuarially rate flood insurance. Pursuant to statute, we distribute conventional and digital flood map products without charge to federal, state and municipal governments. We charge all other users for our products and services. This system of records will enable us, through the NFIP Flood Map Store, to fill written, telephonic and electronic orders from these users for the various map products; to cumulate and retrieve their order information; and to disseminate new product information to them.

DATES: This new system of records takes effect July 18, 2001. We will accept public comments until July 18, 2001.

ADDRESSES: We invite your comments on this system of records. Please address to the Rules Docket Clerk, Office of the General Counsel, Federal Emergency Management Agency, Room 840, 500 C Street, SW, Washington, DC 20472; (telefax) (202)-646-4536, or (email) rules@fema.gov.

FOR FURTHER INFORMATION CONTACT: Eileen Leshan, FOIA/Privacy Act Specialist, Federal Emergency Management Agency, Room 840, 500 C Street, SW, Washington, DC 20472, (telephone) (202)-646-4115, (telefax) (202)-646-4536, or (email) Eileen.Leshan@fema.gov.

SUPPLEMENTARY INFORMATION: We published a notice of Fee Schedule for Processing Requests for Map Changes, for Flood Insurance Study Backup Data, and for National Flood Insurance Program Map and Insurance Products on May 3, 2000, 65 FR 25726.

The new systems of records report, required by 5 U.S.C. 552a(r), is being simultaneously submitted to the Committee on Government Operations of the House of Representatives, the Committee on Governmental Affairs of the Senate, and the Office of Management and Budget, pursuant to Appendix 1 to OMB Circular A-130.

Accordingly, we add FEMA/MIT-7 of the FEMA Privacy Act systems of records to read as follows:

FEMA/MIT-7

SYSTEM NAME:

Flood Map Customer Records.

SECURITY CLASSIFICATION:

Unclassified.

SYSTEM LOCATION:

Offices of the map sales servicing agent under contract with the Federal Emergency Management Agency, Washington, DC 20472.

CATEGORIES OF INDIVIDUALS COVERED BY THE SYSTEM:

Individuals who purchase flood-related map products or whose requests have been forwarded to the map sales servicing contractor. The system also contains records concerning individuals in their entrepreneurial capacity, corporations and other business entities whose records are not subject to the Privacy Act.

CATEGORIES OF RECORDS IN THE SYSTEM:

Electronic database contains name, address, phone number, credit card number and expiration date, account number, order number, product requested and appropriate accounting entries. Information from paper orders is entered into database and paper orders are destroyed after three months.

AUTHORITY FOR MAINTENANCE OF THE SYSTEM:

The National Flood Insurance Act of 1968, as amended, and the Flood Disaster Protection Act of 1973, as amended, 42 U.S.C. 4001 et seq., 5 U.S.C 301, Reorganization Plan No. 3 of 1978 and E.O. 12127.

PURPOSE(S):

The primary use of the records is for reference by the map sales servicing contractor in processing customer inquiries, orders and complaints. The contractor must comply with the requirements of the Privacy Act of 1974, as amended, 5 U.S.C. 552a.

ROUTINE USE OF RECORDS MAINTAINED IN THE SYSTEM, INCLUDING CATEGORIES OF USERS AND THE PURPOSES OF SUCH USES:

In addition to use of the records by a contractor engaged to assist the Agency in performing a contract service related to this system of records and who requires access to the records in order to perform the activity, disclosure of records outside FEMA or the map sales contractor may be made to:

(1) The U.S. Department of Justice or a court or adjudicative body when (a) the United States, FEMA, a component of FEMA, the map sales servicing contractor or, when represented by the Government, an employee of FEMA is a party to litigation or anticipated litigation or has an interest in such litigation, and (b) FEMA determines that the disclosure is relevant or necessary to the litigation and is compatible with the purpose for which the records were compiled;

(2) An appropriate Federal, State, local or foreign agency responsible for investigating, prosecuting, enforcing, or implementing a statute, regulation, rule or order, where FEMA becomes aware of an indication of a violation or potential violation of civil or criminal law or regulation;

(3) A Congressional office when disclosure from the record of an individual is necessary to respond to an inquiry the individual has made to the Congressional office.

(4) To the National Archives and Records Administration for the purpose of conducting records management studies under the authority of 44 U.S.C. 2904 and 2906.

DISCLOSURE TO CONSUMER REPORTING AGENCIES:

Disclosures under 5 U.S.C. 552a(b)(12): Disclosures may be made from this system to a “consumer reporting agency” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records in this system are temporarily stored in a database (i.e., on computer hard drives and computer disks) and subsequently archived in magnetic media. Paper printouts of these data may be made as necessary. Paper copies of customer orders are stored in manual files and destroyed after three months.

RETRIEVABILITY:

Retrievable by name of organization, individual, account number or order number.

SAFEGUARDS:

Records are maintained by the FEMA map sales servicing contractor in areas occupied by contractor personnel during working hours with the building locked and secured by alarm during off hours. In addition, the risk of unauthorized access to or disclosure of personal data in the proposed system is minimized through the use of passwords and security profiles and permissions to enter the computer system in which data are maintained. The computerized records and paper records are stored in secured areas that are accessible only to employees who require the information in performing their official duties. Paper documents are stored either in lockable file cabinets within locked rooms or in otherwise secured areas. All personnel with access to records are screened, cleared and trained.

RETENTION AND DISPOSAL:

Records are retained and disposed of in accordance with the retention and disposition schedules set forth in FEMA Manual 5400 (August 1989), “Records Management: Disposition, Retention and Files Plan.” Means of disposal are appropriate to the storage medium (e.g., erasure of disks, shredding of paper records, etc.).

SYSTEM MANAGER AND ADDRESS:

Project Officer, Map Service Center, Technical Services Division, Mitigation Directorate, Federal Emergency Management Agency, Washington, DC 20472.

NOTIFICATION AND RECORDS ACCESS PROCEDURES:

Inquires should be addressed to the System Manager following procedures set forth at 44 CFR part 6, subpart C.

CONTESTING RECORDS PROCEDURE:

A petition for amendment should be addressed to the System Manager and must meet the content requirements set forth at 44 CFR part 6, subpart D.

RECORD SOURCE CATEGORIES:

Customers on whom record(s) are maintained.

SYSTEM EXEMPTIONS FROM CERTAIN PROVISIONS OF THE ACT.

None.

Dated: June 4, 2001.
Margaret Lawless,
Acting Executive Associate Director for Mitigation

[FR Doc. 01-14441 Filed 6-7-01; 8:45 am]

BILLING CODE 6718-04-P